DEPARTMENT OF DEFENSE

Office of the Secretary

[Docket ID. DoD-2013-OS-0099]

Proposed Collection; Comment Request

AGENCY: The Defense Language and National Security Education Office, Office of the Secretary of Defense for Personnel and Readiness, DoD.

ACTION: Notice.

In compliance with Section 3506(c)(2)(A) of the Paperwork Reduction Act of 1995, the Defense Language and National Security Education Office announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by July 8, 2013.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write CNA, ATTN: Jessica Wolfanger, 4825 Mark Center Drive, Alexandria, VA 22311, or call at (703) 824-2842.

Title; Associated Form; and OMB Number: Boren Scholarship and Fellowship Survey; OMB Control Number 0704-TBD.

Needs and Uses: Boren scholarships and fellowships provide funding for students to study abroad to improve their cultural and language skills in areas critical to national security. In exchange for financial assistance, students are required to work for the federal government for at least one year after completing the program.

The information collection requirement is necessary to identify where former Boren scholarship and fellowship awardees work now and how their careers have developed since completing the program.

Affected Public: Individuals and Households.

Annual Burden Hours: 450.

Number of Respondents: 1,800.

Responses per Respondent: 1.

Average Burden per Response: 15 minutes.

Frequency: Once.

SUPPLEMENTARY INFORMATION:

Summary of Information Collection

The Defense Language and National Security Education Office (DLNSEO) within the Office of the Secretary of Defense for Personnel and Readiness provides Boren scholarships and fellowships for students to study abroad to improve their cultural and language skills in areas critical to national security. In exchange for financial assistance, students are required to work for the federal government for at least one year after completing the program. The purpose of this survey is to evaluate the Boren program by identifying where alumni work now and how their careers have developed since completing the program. The study seeks to understand how the Boren program may influence a participant's career path and identify ways to improve the Boren program. Respondents to the survey are former Boren fellows and scholars who have completed their service requirement.

Dated: May 2, 2013.
Aaron Siegel,
Alternate OSD Federal Register Liaison Officer, Department of Defense.

[FR Doc. 2013-10801 Filed 5-6-13; 8:45 am]

BILLING CODE 5001-06-P